DEPARTMENT OF TRANSPORTATION

Federal Aviation Administration

Notice Before Waiver With Respect to land at Hamilton Municipal Airport, Hamilton, NY

AGENCY: Federal Aviation Administration (FAA), DOT.

ACTION: Notice of intent of waiver with respect to land.

SUMMARY: The FAA is publishing notice of the proposed release of approximately 3.0 acres of land located at Hamilton Municipal Airport, to allow its sale for non-aviation development. The parcel was part of the airport property acquired with federal funding support under the Airport Improvement Program. The Village of Hamilton proposes to sell the land to a developer who will develop it as a Medical office Building.

FAA's action is to release the land from a deem provision requiring aeronautical use of the property. The Village of Hamilton has stated that it has no aeronautical use for the parcel now or in the near future according to the Hamilton Municipal Airport Layout Plan.

The Fair Market Value of the land will be paid to the Village of Hamilton to be used for the capital development of Hamilton Municipal Airport.

Any comments the agency receives will be considered as a part of the decision.

DATES: Comments must be received on or before May 5, 2006.

ADDRESSES: Comments on this application may be mailed or delivered in triplicate to the FAA at the following address: Mr. Otto N. Suriani, Acting Manager, FAA New York Airports District Office, 60 Old County Road, Suite 446, Garden City, New York 11530.

In addition, one copy of any comments submitted to the FAA must be mailed or delivered to Mrs. Sue McVaugh, Mayor, Hamilton, New York at the following address: Mrs. Sue McVaugh, Mayor, Village of Hamilton, PO Box 119, 3 Broad Street, Hamilton, New York 13346.

FOR FURTHER INFORMATION CONTACT: Mr. Otto N. Suriani, Acting Manager, New York Airport District Office, 600 Old County Road, Suite 446, Garden City, New York 11530; telephone (516) 227-3809; Fax (516) 227-3813; e-mail Otto.Suriani@FAA.Gov.

SUPPLEMENTARY INFORMATION: On April 5, 2000, new authorizing legislation became effective. That bill, the Wendell H. Ford Aviation Investment and Reform Act for the 21st Century, Public Law 10-181 (Apr. 5, 2000; 114 Stat. 61) (AIR 21) requires that a 30 day public notice must be provided before the Secretary may waive any condition imposed on an interest in surplus property.

Issued in Garden City, New York, on March 29, 2006.
Otto N. Suriani,
Acting Manager, New York Airports District Office, Eastern Region.

[FR Doc. 06-3247 Filed 4-4-06; 8:45 am]

BILLING CODE 4910-13-M